DEPARTMENT OF HEALTH AND HUMAN SERVICES

Office of the Secretary

Findings of Research Misconduct

AGENCY: Office of the Secretary, HHS.

ACTION: Notice.

SUMMARY: Findings of research misconduct have been made against Johnny J. He, Ph.D. (Respondent), who is a Professor, Department of Microbiology and Immunology, Rosalind Franklin University of Medicine and Science (RFUMS). Respondent engaged in research misconduct in research reported in grant applications submitted for U.S. Public Health Service (PHS) funds, specifically U01 DA056010-01 and DP1 DA056160-01 submitted to the National Institute on Drug Abuse (NIDA), National Institutes of Health (NIH), R01 AG078019-01 submitted to the National Institute on Aging (NIA), NIH, and R35 NS127233-01 submitted to the National Institute of Neurological Disorders and Stroke (NINDS), NIH. The administrative actions, including supervision for a period of three (3) years, were implemented beginning on April 17, 2023, and are detailed below.

FOR FURTHER INFORMATION CONTACT: Sheila Garrity, JD, MPH, MBA, Director, Office of Research Integrity, 1101 Wootton Parkway, Suite 240, Rockville, MD 20852, (240) 453-8200.

SUPPLEMENTARY INFORMATION: Notice is hereby given that the Office of Research Integrity (ORI) has taken final action in the following case:

Johnny J. He, Ph.D., Rosalind Franklin University of Medicine and Science: Based on the report of an investigation conducted by RFUMS, an admission by Respondent, and analysis conducted by ORI in its oversight review, ORI found that Johnny J. He, Ph.D., Professor, Department of Microbiology and Immunology, RFUMS, engaged in research misconduct in research reported in grant applications submitted for PHS funds, specifically U01 DA056010-01 and DP1 DA056160-01 submitted to NIDA, NIH, R01 AG078019-01 submitted to NIA, NIH, and R35 NS127233-01 submitted to NINDS, NIH.

ORI found that Respondent engaged in research misconduct by intentionally, knowingly, or recklessly falsifying, fabricating, and plagiarizing experimental data and text that described the research from one (1) pre-print and four (4) published papers and represented the data and/or ideas as his own under different experimental conditions in four (4) NIH grant applications and in one research record. The falsified, fabricated, and plagiarized research data and text appeared in the following NIH grant applications:

• NIA, NIH, grant R01 AG078019-01, “iTat mice to model HIV-impaired neurogenesis and accelerated aging,” submitted on September 7, 2021

• NIDA, NIH, grant U01 DA056010-01, “Single cell and spatial transcriptomic changes of cocaine use in the iTat HAND model,” submitted on July 20, 2021

• NIDA, NIH, grant DP1 DA056160-01, “Targeting epigenetic changes to understand and treat CUD in people living with HAND,” submitted on August 13, 2021

• NINDS, NIH, grant R35 NS127233-01, “HIV-associated neurocognitive disorder: from mechanisms to therapeutics,” submitted on July 13, 2021

The sources of the plagiarized images and text were:

• Clin Transl Med. 2017 June 8;6(1):20. doi: 10.1186/s40169-017-0150-9 (hereafter referred to as “Clin Trans Med 2017”)

• Sci Adv. 2019 October 16;5(10):eaax1532. doi: 10.1126/sciadv.aax1532 (hereafter referred to as “Sci Adv 2019”)

• BioRxiv. March 5, 2020. doi:10.1101/2020.02.29.970558v2 (hereafter referred to as “BioRxiv 2020”). BioRxiv 2020 is a preprint version of Nature. 2021 October 6;598(7879):103-110. doi: 10.1038/s41586-021-03500-8

• Biosci Biotechnol Biochem. 2020 May;84(5):919-926. doi:10.1080/09168451.2020.1714420 (hereafter referred to as “BBB 2020”)

• Front Oncol. 2021 January 19;10:607349. doi: 10.3389/fonc.2020.607349 (hereafter referred to as “Front Onc 2021”)

Specifically, ORI found that Respondent knowingly, intentionally, or recklessly:

• falsified, fabricated, and plagiarized research data and the text that described the research by:

—using Figures 1A and 1B of BBB 2020, representing wild-type and APP23 mice at 6 and 24 months, as the Respondent's own data in Figures 5A and 5B of U01 DA056010-01 and Figures 7A and 7B of R01 AG78019-01, representing wild-type and iTat mice at 6 and 12 months

—using Figures 3c and 3d of BioRxiv 2020, representing results in 60 days old Snap25-IRES2-Cre mice crossed to Ai14 mice, as the Respondent's own data in Figure 6 of U01 DA056010-01 and Figure 8 of R01 AG078019-01, representing results in 12-weeks old iTat mice

—using, cropping, and splicing Figures 5g-5i of BioRxiv 2020, representing cell type transcription factors networks signature of the regulatory genome in neurons isolated from the brains of Snap25-IRES2-Cre mice crossed to Ai14 mice, as the Respondent's own data in one research record intended for use in preparing figures for incorporation in U01 DA056010-01, representing spatiotemporal atlas of gene regulatory networks and biological pathways in the brain during neurogenesis and aging altered by Tat expression and HIV infection

• fabricated and plagiarized research data and text that described the research by:

—using Figure 3 of Front Onc 2021 as the Respondent's own data in Figure 8 of U01 DA056010-01 and Figure 10 of R01 AG078019-01

• plagiarized text by:

—using a paragraph from Sci Adv 2019 as the Respondent's own text describing cocaine use disorder in the section titled “The problem description and a new therapeutic strategy for CUD in people living with HAND” of DP1 DA056160-01

—using a paragraph from Clin Trans Med 2017 as the Respondent's own text describing single cell sequencing in Specific Aim 2 of both U01 DA056010-01 and R01 AG078019-01

Dr. He entered into a Voluntary Settlement Agreement (Agreement) and voluntarily agreed to the following:

(1) Respondent will have his research supervised for a period of three (3) years beginning on April 17, 2023 (the “Supervision Period”). Prior to the submission of an application for PHS support for a research project on which Respondent's participation is proposed and prior to Respondent's participation in any capacity in PHS-supported research, Respondent will submit a plan for supervision of Respondent's duties to ORI for approval. The supervision plan must be designed to ensure the integrity of Respondent's research. Respondent will not participate in any PHS-supported research until such a supervision plan is approved by ORI. Respondent will comply with the agreed-upon supervision plan.

(2) The requirements for Respondent's supervision plan are as follows:

i. A committee of 2-3 senior faculty members at the institution who are familiar with Respondent's field of research, but not including Respondent's supervisor or collaborators, will provide oversight and guidance for a period of three (3) years from the effective date of the Agreement. The committee will review primary data from Respondent's laboratory on a quarterly basis and submit a report to ORI at six (6)-month intervals setting forth the committee meeting dates and Respondent's compliance with appropriate research standards and confirming the integrity of Respondent's research.

ii. The committee will conduct an advance review of each application for PHS funds, or report, manuscript, or abstract involving PHS-supported research in which Respondent is involved. The review will include a discussion with Respondent of the primary data represented in those documents and will include a certification to ORI that the data presented in the proposed application, report, manuscript, or abstract are supported by the research record.

(3) During the Supervision Period, Respondent will ensure that any institution employing him submits, in conjunction with each application for PHS funds, or report, manuscript, or abstract involving PHS-supported research in which Respondent is involved, a certification to ORI that the data provided by Respondent are based on actual experiments or are otherwise legitimately derived and that the data, procedures, and methodology are accurately reported and not plagiarized in the application, report, manuscript, or abstract.

(4) If no supervision plan is provided to ORI, Respondent will provide certification to ORI at the conclusion of the Supervision Period that his participation was not proposed on a research project for which an application for PHS support was submitted and that he has not participated in any capacity in PHS-supported research.

(5) During the Supervision Period, Respondent will exclude himself voluntarily from serving in any advisory or consultant capacity to PHS including, but not limited to, service on any PHS advisory committee, board, and/or peer review committee.

Dated: April 28, 2023.
Sheila Garrity,
Director, Office of Research Integrity, Office of the Assistant Secretary for Health.

[FR Doc. 2023-09355 Filed 5-2-23; 8:45 am]

BILLING CODE 4150-31-P